DEPARTMENT OF ENERGY

Request for Information Regarding Interregional and Offshore Wind Transmission

AGENCY: Grid Deployment Office, U.S. Department of Energy.

ACTION: Request for information (RFI).

SUMMARY: The Inflation Reduction Act (IRA) provides funding to the Secretary of Energy (Secretary) to support convening relevant stakeholders to address the development of interregional electricity transmission and transmission of electricity that is generated by offshore wind, and to conduct planning, modeling, and analysis regarding interregional electricity transmission and transmission of electricity generated by offshore wind. Transmission development is an important priority to address reliability issues within the national electrical grid and to improve the flow of new energy generation, including offshore wind, both between regions and within regions to meet national clean energy goals. The U.S. Department of Energy (DOE) Grid Deployment Office (GDO) is issuing this RFI to seek input from all parties regarding issues related to the planning and development of electric transmission facilities to service offshore wind power generating stations on the U.S. West Coast.

DATES: Written comments and information are requested on or before October 3, 2024.

ADDRESSES: Interested parties may submit comments to OSWTransmission@hq.doe.gov.

FOR FURTHER INFORMATION CONTACT: Requests for additional information may be sent to OSWTransmission@hq.doe.gov. Questions about the RFI may be addressed to Katherine Segal, (301) 820-2892; OSWTransmission@hq.doe.gov.

SUPPLEMENTARY INFORMATION:

I. Background

On August 16, 2022, President Biden signed the Inflation Reduction Act (IRA).¹ The IRA makes the single largest investment in climate and energy in American history, enabling America to tackle the climate crisis and putting the United States on a pathway to achieving the Biden-Harris Administration's climate goals, including a net-zero economy by 2050. Within section 50153, the IRA provides funding for the Department to support convening “relevant stakeholders to address the development of interregional electricity transmission and transmission of electricity that is generated by offshore wind,” and to “conduct planning, modeling, and analysis regarding interregional electricity transmission and transmission of electricity generated by offshore wind.” ²

¹ Inflation Reduction Act, Public Law 117-169 (August 16, 2022).

² Inflation Reduction Act, Public Law 117-169 (August 16, 2022).

II. Purpose

The purpose of this RFI is to gather information about siting offshore wind electricity transmission infrastructure from recreational and commercial ocean users, offshore wind or maritime industries, government entities (Tribal, Federal, State, county, or local government agencies), and the public. As part of this RFI, DOE is primarily interested in feedback on the transmission infrastructure associated with offshore wind and not the offshore wind generation turbines themselves. Transmission infrastructure includes electrical cables, cable corridors, substations, transformers, converters, and other associated equipment located both offshore and onshore.

Information provided as part of this RFI will be used by GDO and the Bureau of Ocean Energy Management (BOEM), U.S. Department of the Interior, as part of the West Coast Offshore Wind Transmission Convening Series. Feedback gathered through this RFI, and the Convening Series will support GDO and BOEM in the development of West Coast offshore wind transmission recommendations. These recommendations will not include any regulatory actions or siting decisions. For examples of the types of recommendations that DOE and BOEM might develop for the West Coast, please see An Action Plan for Offshore Wind Transmission Development in the U.S. Atlantic Region (www.energy.gov/gdo/atlantic-offshore-wind-transmission-action-plan).

III. Request for Information

Planning and siting transmission infrastructure for offshore wind energy involves several authorities (e.g., BOEM, Federal Energy Regulatory Commission (FERC), independent system operators and regional transmission organizations, public utility commissions, State departments of energy, State departments of fish and wildlife, etc.) tasked with planning, locating, designing, and approving new or upgraded electric transmission facilities. Transmission associated with offshore wind energy generation will need to be sited both offshore and onshore. Understanding the constraints related to the shared use of new or existing transmission rights-of-way will allow transmission planning entities and siting authorities to make decisions using the best available information and science. DOE is considering recommendations to support planning entities and siting authorities in the decision-making process. In particular, DOE seeks to understand transmission siting constraints both offshore and onshore, environmental and energy justice priorities, community impacts, information gaps, and technical assistance needs through the following questions:

1. What considerations need to be accounted for when siting transmission for offshore wind energy generation in offshore locations on the West Coast?

a. For the considerations identified, what information is currently available?

b. For the considerations identified, do any lack existing data sources to rely on? If no data sources are available, are there existing methods to collect, survey, or otherwise measure the characteristics?

2. What considerations need to be accounted for when siting transmission for offshore wind energy generation in onshore locations on the West Coast?

a. For the considerations identified, what information is currently available?

b. For the considerations identified, do any lack existing data sources to rely on? If no data sources are available, are there existing methods to collect, survey, or otherwise measure the characteristics?

3. What environmental justice and energy justice issues should inform how transmission is sited and implemented on the West Coast for offshore wind?

4. What specific topics about offshore wind transmission siting, technology, and benefits are not well understood by yourself or your organization?

a. What types of educational materials or research products, if any, would improve your understanding and awareness of these topics?

b. What format should these resources be distributed in (e.g., written, webinar, meetings, website content, technical report, etc.)?

c. How should information from ocean co-users ³ be integrated into educational materials or research products?

³ Ocean co-users include, but are not limited to, fishing organizations, maritime shipping industry, or other commercial and recreational ocean users.

d. What specific data or information can be provided by ocean co-users for the purpose of filling knowledge gaps? How should information from ocean co-users be disseminated or shared?

5. What forms of assistance (technical assistance or otherwise) would support efficient and equitable siting and development of offshore wind transmission infrastructure?

6. Do you have any additional information or thoughts you want to provide about transmission infrastructure related to offshore wind energy?

IV. Response Guidelines

Responses to the RFI must be provided in writing and submitted electronically to OSWTransmission@hq.doe.gov no later than 5:00 p.m. EDT on October 3, 2024. Include “RFI for Offshore Wind Transmission” in the subject line of the email. Responses must be provided as a Microsoft Word (.docx) or PDF attachment to the email, and no more than 10 pages in length, 12-point font, 1-inch margins. It is recommended that attachments with file sizes exceeding 25MB be compressed (i.e., zipped) to ensure message delivery. Please do not feel obligated to submit long, formal responses. If you or your organization are resource-constrained (time, staff, etc.) and only have the capacity to share short or informal notes or thoughts, DOE still wants to hear from you.

For ease of replying and to aid categorization of your responses, please copy and paste the RFI questions, including the question numbering, and use them as a template for your response. Respondents may answer as many or as few questions as they wish. DOE will not respond to individual submissions. A response to this RFI will not be viewed as a binding commitment to develop or pursue the project or ideas discussed.

Respondents are requested to provide the following information at the start of their response to this RFI:

• Company/institution/agency/person name.

• Company/institution/agency/person contact information.

This RFI is solely a request for information and is not a grant announcement. DOE is not accepting applications, nor will DOE reimburse any of respondents' costs in preparing a response. Any information obtained as a result of this RFI is intended to be used by the Federal Government on a non-attribution basis for planning and strategy development; this RFI does not constitute a formal announcement for applications or abstracts. Your response to this notice will be treated as information only. DOE will review and consider all responses in its formulation of program strategies for the identified materials of interest that are the subject of this request. Respondents are advised that DOE is under no obligation to acknowledge receipt of the information received or provide feedback to respondents with respect to any information submitted under this RFI. Responses to this RFI do not bind DOE to any further actions related to these topics.

Sensitive Indigenous Knowledge and Cultural Information

The intent of this RFI is not to solicit any sensitive information about cultural, traditional, sacred resources, or Traditional Indigenous Knowledge that is not already in the public domain. Therefore, respondents are strongly advised NOT to include any sensitive information about cultural, traditional, or sacred resources or Traditional Indigenous Knowledge that respondents would not want publicly released. Tribal Nations should be aware that responses to this RFI can be subject to a Freedom of Information Act (FOIA) request and may result in the disclosure of information to the public. If a Tribal Nation chooses to provide information that the Tribal Nation believes to be confidential and exempt by law from public disclosure, the Tribal Nation should submit via email two well marked copies: one marked “information exempt from disclosure” and one marked “information subject to disclosure” as described in the section below. If a Tribal Nation wants to discuss, among other topics related to this RFI, concerns about sensitive resources, the Tribal Nation is encouraged to request tribal consultation. Tribal Nations can find an explanation on the scope of Federal agencies' authorities to limit the disclosure of information about Tribal resources to the public on pages 25 to 29 of the “Best Practices Guide for Federal Agencies Regarding Tribal and Native Hawaiian Sacred Sites.” ⁴

⁴ https://www.bia.gov/sites/default/files/media_document/sacred_sites_guide_508_2023-1205.pdf.

Confidential Business Information

Because information received in response to this RFI may be used to inform future programs and/or otherwise be made available to the public, respondents are strongly advised NOT to include any information in their responses that might be considered confidential business information pursuant to 10 CFR 1004.11.

Any person submitting information believed to be confidential and exempt by law from public disclosure should submit via email two well marked copies: one copy of the document marked “Confidential Information” including all the information believed to be confidential, and one copy of the document marked “Non-Confidential” with the information believed to be confidential deleted. DOE will make its own determination about the confidential status of the information and treat it according to its determination. The copy containing confidential information must include a cover sheet marked as follows: identifying the specific pages containing confidential, proprietary, or privileged information: “Notice of Restriction on Disclosure and Use of Data: Pages [list applicable pages] of this response may contain confidential, commercial, or financial information that is exempt from public disclosure.” The Government may use or disclose any information that is not appropriately marked or otherwise restricted, regardless of source. In addition, (1) the header and footer of every page that contains confidential, proprietary, or privileged information must be marked as follows: “Contains Confidential, Commercial, or Financial Information Exempt from Public Disclosure”; and (2) every line and paragraph containing proprietary, privileged, or trade secret information must be clearly marked with [[double brackets]] or highlighting.

Signing Authority

This document of the Department of Energy was signed on August 7, 2024, by Maria D. Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. The administrative process in no way alters the legal effect of this document upon publication in the Federal Register.

Signed in Washington, DC, on August 13, 2024.
Treena V. Garrett,
Federal Register Liaison Officer, U.S. Department of Energy.

[FR Doc. 2024-18395 Filed 8-16-24; 8:45 am]

BILLING CODE 6450-01-P